ENVIRONMENTAL PROTECTION AGENCY

[EPA-R01-OW-2009-0103; FRL-8927-8]

Maine Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the coastal waters of Southern Mount Desert Island.

ADDRESSES: Docket: All documents in the docket are listed in the http://www.regulations.gov index. Although listed in the index, some information is not publicly available, e.g., CBI or other information whose disclosure is restricted by statute. Certain other material, such as copyrighted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. E-mail address: rodney.ann@epa.gov.

SUPPLEMENTARY INFORMATION: On April 24, 2009, EPA published a notice that the State of Maine had petitioned the Regional Administrator, Environmental Protection Agency, to determine that adequate facilities for the safe and sanitary removal and treatment of sewage from all vessels are reasonably available for the waters of Mount Desert, Southwest Harbor, portions of Cranberry Isles, and Tremont. One comment was received on this petition. The response to this comment can be obtained utilizing the above contact information.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Southern Mount Desert Island. The NDA boundaries are as follows:

Waterbody/general area | From longitude | From latitude | To longitude | To latitude
From “Bass Harbor Head” in Tremont north following the shore to the bridge over the outlet stream of “Somes Pond” in Mount Desert | 68°20′14.35″ W | 44°13′16.42″ N | 68°20′0.79″ W | 44°21′46.16″ N
Northeast following the shore to the bridge over “Kitteridge Brook” in the northernmost portion of “Somes Harbor” in Mount Desert | 68°20′0.79″ W | 44°21′46.16″ N | 68°19′45.68″ W | 44°22′5.07″ N
East following the shore to the head of “Somes Sound” in Mount Desert | 68°19′45.68″ W | 44°22′5.07″ N | 68°18′36.0″ W | 44°21′49.83″ N
South following the shore to the northern most portion of “Northeast Harbor” in Mount Desert | 68°18′36.0″ W | 44°21′49.83″ N | 68°17′1.48″ W | 44°18′8.08″ N
East following the shore to the northernmost head of “Otter Cove” in Mount Desert | 68°17′1.48″ W | 44°18′8.08″ N | 68°12′6.47″ W | 44°19′22.25″ N
South following the shore to “Otter Point” in Mount Desert | 68°12′6.47″ W | 44°19′22.25″ N | 69°11′27.45″ W | 44°18′20.76″ N
South in a straight line across the water to navigational marker C “1” off “Baker Island” in Cranberry Isles | 69°11′27.45″ W | 44°18′20.76″ N | 68°11′16.54″ W | 44°14′16.84″ N
West in a straight line across the water to “Bass Harbor Head” in Tremont | 68°11′16.54″ W | 44°14′16.84″ N | 68°20′14.35″ W | 44°13′16.42″ N

The area includes the municipal waters of Mount Desert, Southwest Harbor, portions of Cranberry Isles, and Tremont.

The information submitted to EPA by the State of Maine certifies that there are six pumpout facilities located within this area. A list of the facilities, with locations, phone numbers, and hours of operation is appended at the end of this determination.

Based on the examination of the petition and its supporting documentation, and discussions with the State and local officials, EPA has determined that adequate facilities for the safe and sanitary removal and treatment of sewage from all vessels are reasonably available for the area covered under this determination.

This determination is made pursuant to Section 312(f)(3) of Public Law 92-500, as amended by Public laws 95-217 and 100-4.

Pumpout Facilities Within Proposed No Discharge Area
[Southern Mount Desert Island]
Name | Location | Contact info. | Hours | Mean low water depth
Harbormaster | 18 Harbor Dr., Mount Desert | 207-276-5737, HF 16 | 8 a.m.-5 p.m., 7 days | 10 ft.
Clifton Dock | Clifton Dock Rd., Mount Desert | 207-967-2511, HF 9 | 8 a.m.-5 p.m., 7 days | 10 ft.
Hinckley Company | 130 Shore Rd., Southwest Harbor | 207-244-5572, VHF 9 | 8 a.m.-5 p.m., 7 days | 20 ft.
Great Harbor Marina | 11 Apple Lane, Southwest Harbor | 207-244-0117, VHF 9 | 9 a.m.-5 p.m., 7 days | 10 ft.
Southwest Boat Marine Service | 168 Clarke Point Rd., Southwest Harbor | 207-244-5525, VHF 9 | 9 a.m.-5 p.m., M-F | 8 ft.
Downeast Diesel and Marine | 174 Clarke Point Rd., Southwest Harbor | 207-244-5145, VHF 9 | 9 a.m.-5 p.m., M-F | 8 ft.

Dated: June 22, 2009.
Ira W. Leighton,
Acting Regional Administrator, New England Region.

[FR Doc. E9-16838 Filed 7-14-09; 8:45 am]

BILLING CODE 6560-50-P